FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicant

Aimpacific Service, Inc., 3380 Flair Drive, #236, El Monte, CA 91731, Officer:Shan Kung, Chief Operation Manager (Qualifying Individual).

Non-Vessel Operating Common Carrier and Ocean Freight Forwarder Transportation Intermediary Applicants

Golden Egg Warehouse Logistic, 5401 San Leandro Street, Oakland, CA 94601, Chau Thai, Sole Proprietor,

Tri Star Freight System, Inc., 5407 Mesa Drive, Houston, TX 77028, Officer:Kathleen G. Nance, CEO (Qualifying Individual),

Apex Maritime Col, Inc. dba Apex Shipping Company, 208 Utah Avenue, So. San Francisco, CA 94080, Officers:Vicky Cheung, President, (Qualifying Individual) Lena Cheung, Secretary,

LT Freight International, Inc., 4751 Blanco Drive, San Jose, CA 95129, Officers:Tony Tian, Vice President (Qualifying Individual), Lisa Tian, President.

Ocean Freight Forwarder—Ocean Transportation Intermediary Applicants

Baycor International, LLC, 110 Standifer Street, Humble, TX 77338, Officers:Jorge A. Aponte, President (Qualifying Individual), Mariela Guzman, Director.

Dated: August 15, 2008.
Karen V. Gregory,
Assistant Secretary.

[FR Doc. E8-19328 Filed 8-19-08; 8:45 am]

BILLING CODE 6730-01-P